SMALL BUSINESS ADMINISTRATION

[Declaration of Disaster #3378]

State of Texas; Disaster Loan Areas

Medina County and the contiguous counties of Atascosa, Bandera, Bexar, Frio, Uvalde and Zavala in the State of Texas constitute a disaster area as a result of severe storms and tornadoes that occurred on October 12, 2001. Applications for loans for physical damage as a result of this disaster may be filed until the close of business on February 1, 2002 and for economic injury may be filed until the close of business on September 3, 2002 at the address listed below or other locally announced locations: U.S. Small Business Administration, Disaster Area 3 Office, 4400 Amon Carter Blvd., Suite 102, Ft. Worth, TX 76155.

The interest rates are:

| (Percent)
For Physical Damage:
Homeowners with Credit Available Elsewhere | 6.500
Homeowners without Credit Available Elsewhere | 3.250
Businesses with Credit Available Elsewhere | 8.000
Businesses and Non-Profit Organizations without Credit Available Elsewhere | 4.000
Others (Including Non-Profit Organizations) with Credit Available Elsewhere | 6.375
For Economic Injury:
Businesses and Small Agricultural Cooperatives without Credit Available Elsewhere | 4.000

The number assigned to this disaster for physical damage is 337811 and for economic injury is 9N6700.

(Catalog of Federal Domestic Assistance Program Nos. 59002 and 59008)

Dated: December 3, 2001.
Hector V. Barreto,
Administrator.

[FR Doc. 01-30427 Filed 12-7-01; 8:45 am]

BILLING CODE 8025-01-P